DEPARTMENT OF ENERGY

Energy Information Administration

Policy Statement; Solicitation of Comments on the Policy for Statistical Information Based on Petroleum Supply Reporting System Survey Data

AGENCY: Energy Information Administration (EIA), Department of Energy (DOE).

ACTION: Policy statement; solicitation of comments on the policy for statistical information based on Petroleum Supply Reporting System survey data.

SUMMARY: The EIA is requesting comments on the policy for statistical information based on Petroleum Supply Reporting System (PSRS) survey data collected and disseminated beginning in 2004. This request is based on EIA's mandate for carrying out a central, comprehensive, and unified energy data and information program responsive to users' needs for credible, reliable, and timely energy information that will improve and broaden understanding of petroleum supply in the United States.

DATES: Comments must be filed by December 22, 2003. If you anticipate difficulty in submitting comments within that period, contact the person listed below as soon as possible.

ADDRESSES: Comments on this policy should be directed to Stefanie Palumbo, Petroleum Division. To ensure receipt of the comments by the due date, submission by FAX (202-586-5846) or e-mail (stefanie.palumbo@eia.doe.gov) is recommended. The mailing address is Petroleum Division, EI-42, Forrestal Building, U.S. Department of Energy, 1000 Independence Ave., SW., Washington, DC 20585. Alternatively, Stefanie Palumbo may be contacted by telephone at (202) 586-6866.

FOR FURTHER INFORMATION CONTACT: Requests for additional information should be directed to Ms. Palumbo at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

The purpose of the Petroleum Supply Reporting System (PSRS) surveys is to collect data to meet EIA's mandates and energy data users' needs for credible, reliable, and timely energy information on the petroleum industry. Adequate evaluation of the industry requires detailed, comprehensive data on production, receipts, inputs, regional movements, imports, and stocks of crude oil, petroleum products, and natural gas liquids in the United States. The survey information is used to create statistics disseminated by EIA in various information products including the Weekly Petroleum Status Report, This Week in Petroleum, the Petroleum Supply Monthly, and the Petroleum Supply Annual available on EIA's Web site at http://www.eia.doe.gov/oil_gas/petroleum/info_glance/petroleum.html.

EIA's petroleum supply program provides Congress, other government agencies, businesses, trade associations, and private research and consulting organizations with statistics for analysis, projections, and monitoring purposes. To be most effective, EIA's petroleum supply statistical information must be available by product detail at sub-U.S. geographic breakdowns such as by Petroleum Administration for Defense (PAD) District, Refining District, and State.

The types of information collected in the PSRS surveys and the level of detail in statistical information disseminated by EIA follow a pattern first established by the Bureau of Mines in 1917. The PSRS surveys include weekly, monthly, and annual surveys designed to provide information on petroleum supply at various levels of detail given tradeoffs between timeliness and improved accuracy. For 2004, the PSRS surveys are expected to include the following forms:

• EIA-800, Weekly Refinery and Fractionator Report,

• EIA-801, Weekly Bulk Terminal Report,

• EIA-802, Weekly Product Pipeline Report,

• EIA-803, Weekly Crude Oil Stocks Report,

• EIA-804, Weekly Imports Report,

• EIA-805, Weekly Terminal Blenders Report,

• EIA-810, Monthly Refinery Report,

• EIA-811, Monthly Bulk Terminal Report,

• EIA-812, Monthly Product Pipeline Report,

• EIA-813, Monthly Crude Oil Report,

• EIA-814, Monthly Imports Report,

• EIA-815, Monthly Terminal Blenders Report,

• EIA-816, Monthly Natural Gas Liquids Report,

• EIA-817, Monthly Tanker and Barge Movement Report,

• EIA-819, Monthly Oxygenate Report, and

• EIA-820, Annual Refinery Report.

The specific forms and data elements in the PSRS surveys change over time to reflect the industry. However, the overall purpose of the PSRS continues to be providing credible, reliable, and timely information on the petroleum industry. The information is integral to adequately understanding the U.S. petroleum supply situation. Detailed information at low level geographic breakdowns is needed on production, receipts, inputs, regional movements, imports, and stocks of crude oil, petroleum products, and natural gas liquids.

Most PSRS survey information is collected under a pledge of confidentiality. For information collected under a pledge of confidentiality, EIA does not publicly release names or other identifiers of survey respondents linked to their submitted data. However, for many data items, EIA does not apply disclosure limitation to statistics based on the survey data.

Disclosure limitation involves methods used to avoid the possibility that individually-identifiable information reported by a survey respondent may be inferred from published statistics. In accordance with EIA's existing policy for PSRS statistical information, most petroleum supply statistical information disseminated by EIA has not been subjected to disclosure limitation methods (the policy of not using disclosure limitation on petroleum supply statistical information has been in effect since EIA's creation in 1977 and was announced in the Federal Register on August 7, 1986 (61 FR 28415)). Therefore, when statistics are based on PSRS data from fewer than three respondents or are dominated by data from one or two large respondents and are not subjected to disclosure limitation methods, it may be possible for a knowledgeable person to estimate the data reported by a specific respondent.

While disclosure limitation has not been used on the majority of statistics based on the PSRS survey data, disclosure limitation has been used for statistics based on new products or product breakdowns that have occurred since 1986. Petroleum Supply Monthly (and corresponding Petroleum Supply Annual) tables that use currently use disclosure limitation are: Table 28, “Refinery Input of Crude Oil and Petroleum Products by PAD and Refining Districts,” Table 29, “Refinery Net Production of Finished Petroleum Products by PAD and Refining Districts,” Table 30, “Refinery Stocks of Crude Oil and Petroleum Products by PAD and Refining Districts,” Table 51, “Stocks of Crude Oil and Petroleum Products by PAD District,” Table 52, “Refinery, Bulk Terminal, and Natural Gas Plant Stocks of Selected Petroleum Products by PAD District and State,” Table D2, “Monthly Fuel Ethanol Production and Stocks by PAD Districts,” and Table D3, “Monthly Methyl Tertiary Butyl Ether (MTBE) Production and Stocks by PAD Districts.”

II. Current Actions

Beginning in January 2004, EIA proposes to extend its 1986 policy of not applying disclosure limitation to statistics based on PSRS survey data to all PSRS survey information collected under a pledge of confidentiality. With increases in the number of different petroleum products, enlarged product detail breakdowns, and declines in the number of companies reporting on many of the PSRS surveys, the policy not to use disclosure limitation helps to ensure EIA's ability to disseminate detailed petroleum, supply information.

EIA is requesting public comments on this policy. This policy will result in EIA providing the maximum amount of PSRS information to the public, and will facilitate public understanding of the petroleum industry. However, it also means that a knowledgeable person may be able to estimate the value of selected data items provided by specific respondents.

III. Request for Comments

The public should comment on the actions discussed in item II. The questions below are the issues on which EIA is seeking public comments.

A. Does EIA's proposed policy not to use disclosure limitation methods for statistics based on PSRS survey information collected under a pledge of confidentiality and disseminated beginning in 2004 maximize the utility of the data to data users?

B. Is the possibility that a knowledgeable user might be able to estimate a respondent's contribution to a statistic an acceptable risk to data providers?

Comments submitted in response to this notice will be considered by EIA. The comments will also become a matter of public record.

After consideration of the comments, EIA will issue its policy regarding the use of disclosure limitation methods for statistics based on PSRS survey data. The policy will be announced in a Federal Register notice issued by EIA.

Statutory Authority: Section 52 of the Federal Energy Administration Act (Pub. L. 93-275, 15 U.S.C. 790a).

Issued in Washington, DC, November 14, 2003.
Guy F. Caruso,
Administrator, Energy Information Administration.

[FR Doc. 03-28993 Filed 11-19-03; 8:45 am]

BILLING CODE 6450-01-P